DEPARTMENT OF THE INTERIOR

National Park Service

[NPS-WASO-NAGPRA-23787]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian Tribes, and has determined that a cultural affiliation between the human remains and associated funerary objects and any present-day federally recognized Indian Tribes cannot be reasonably traced. Representatives of any federally recognized Indian Tribe not identified in this notice that wish to request transfer of control of these human remains and associated funerary objects should submit a written request to TVA. If no additional requestors come forward, transfer of control of the human remains and associated funerary objects to the federally recognized Indian Tribe stated in this notice may proceed.

DATES: Representatives of any federally recognized Indian Tribe not identified in this notice that wish to request transfer of control of these human remains and associated funerary objects should submit a written request with information in support of the request to TVA at the address in this notice by October 5, 2017.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Jackson and Marshal Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

The sites listed in this notice were excavated as part of TVA's Guntersville Reservoir project by the Alabama Museum of Natural History (AMNH) at the University of Alabama, using labor and funds provided by the Works Progress Administration. Details regarding these excavations and sites may be found in a report, “An Archaeological Survey of Guntersville Basin on the Tennessee River in Northern Alabama,” by William S. Webb and Charles G. Wilder. The human remains and associated funerary objects excavated from the sites listed in this notice have been in the physical custody of the AMNH at the University of Alabama since excavation, but are under the control of TVA.

From March to April of 1938, human remains representing, at minimum, 37 individuals were removed from the Hardin site (1JA27) in Jackson County, AL, after TVA acquired the site on October 16, 1936. Excavations revealed two occupations, including Late Woodland Flint River phase (A.D. 500-1000) and Mississippian Henry Island phase (A.D. 1200-1450). The human remains include adults, juveniles, and infants of both sexes. No known individuals were identified. No associated funerary objects are present.

From January to June of 1938, human remains representing, at minimum, 158 individuals were removed from the Saulty and Riley site (1JA28) in Jackson County, AL, after TVA purchased the site on October 16, 1936. Site 1JA28 was composed of both a village and adjacent mound, with Woodland (Flint River phase) and Mississippian (Henry Island phase) occupations identified. The human remains include adults, juveniles and children of both sexes. No known individuals were identified. The 4,711 associated funerary objects include 1 stone adze; 1 biface fragment; 17 bone awls; 1 bone fish hook; 1 stone celt; 2 Little Bear Creek projectile points; 1non-cortical flake; 2 unidentified projectile points; 4,680 shell beads; 3 shell gorgets/pendants; 1 stone discoidal; and 1 turtle shell net gage.

From September of 1938 to January of 1939, human remains representing, at minimum, 84 individuals were removed from the Laws site (1MS100) on Pine Island in Marshall County, AL, after TVA purchased the land on April 21, 1937. Excavations began at the levee adjacent to the river and proceeded by both vertical slicing and horizontal excavations. There appear to have been at least four occupations at this site, including a pre-ceramic period with steatite vessels; a village using limestone-tempered pottery during the Flint River phase (A.D. 500-1000); a late Mississippian occupation using shell-tempered ceramics and rectilinear wall trench structures (Crow Creek phase, A.D. 1500-1700); and burials with Euro-American trade goods circa A.D. 1670-1715. The human remains include adults, juveniles and infants of both sexes. No known individuals were identified. The 249 associated funerary objects include 1 bone awl; 1 canine bone; 2 pieces of fired clay; 1 graphite nodule; 1 modified bone; 241 shell beads; 1 shell ear plug; and 1 shell pendant.

From October to November of 1937, human remains representing, at minimum, 11 individuals were removed from site 1MS121 on Pine Island in Marshall County, AL, after TVA purchased the site on April 19, 1937. There were excavations in both the village and adjacent mound. There are no radiocarbon dates for this site. Artifacts recovered from the site indicate both a Woodland and Mississippian occupation. The human remains include adults, juveniles and infants of both sexes. No known individuals were identified. No associated funerary objects are present.

At the time of the excavation and removal of these human remains and associated funerary objects, the land from which the human remains and associated funerary objects were removed was not the tribal land of any federally recognized Indian tribe. On May 2, 2017, TVA consulted with all federally recognized Indian tribes who are recognized as aboriginal to the area from which these Native American human remains and associated funerary objects were removed. These tribes are the Cherokee Nation, Eastern Band of Cherokee Indians, and the United Keetoowah Band of Cherokee Indians in Oklahoma. None of these Indian tribes agreed to accept control of the human remains and associated funerary objects. After further consultation, TVA has decided to transfer control of the human remains and associated funerary objects to the Alabama-Coushatta Tribe of Texas (previously listed as the Alabama-Coushatta Tribes of Texas); Alabama-Quassarte Tribal Town; Coushatta Tribe of Louisiana; and The Muscogee (Creek) Nation.

Determinations Made by the Tennessee Valley Authority

Officials of TVA have determined that:

• Pursuant to 25 U.S.C. 3001(9), the human remains described in this notice are Native American based on their presence in prehistoric archeological sites and osteological analysis.

• Pursuant to 25 U.S.C. 3001(9), the human remains described in this notice represent the physical remains of 290 individuals of Native American ancestry.

• Pursuant to 25 U.S.C. 3001(3)(A), the 4,960 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.11(c)(1)(i), at the time of excavation of the human remains and associated funerary objects, the land from which the cultural items were removed was not the tribal land of any federally recognized Indian tribe.

• Pursuant to 43 CFR 10.11(c)(1)(ii), the following tribes are aboriginal to the area from which the cultural items were excavated: The Cherokee Nation, Eastern Band of Cherokee Indians, and United Keetoowah Band of Cherokee Indians in Oklahoma. None of these tribes agreed to accept control of the human remains or associated funerary objects.

• Pursuant to 43 CFR 10.11(c)(2)(i), TVA has decided to transfer control of the culturally unidentifiable human remains to the Alabama-Coushatta Tribe of Texas (previously listed as the Alabama-Coushatta Tribes of Texas); Alabama-Quassarte Tribal Town; Coushatta Tribe of Louisiana; and The Muscogee (Creek) Nation.

• Pursuant to 43 CFR 10.11(c)(4), TVA has decided to transfer control of the culturally unidentifiable associated funerary objects to the Alabama-Coushatta Tribe of Texas (previously listed as the Alabama-Coushatta Tribes of Texas); Alabama-Quassarte Tribal Town; Coushatta Tribe of Louisiana; and The Muscogee (Creek) Nation.

Additional Requestors and Disposition

Representatives of any federally recognized Indian Tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by October 5, 2017. After that date, if no additional requestors have come forward, transfer of control of the human remains and associated funerary objects to the Alabama-Coushatta Tribe of Texas (previously listed as the Alabama-Coushatta Tribes of Texas); Alabama-Quassarte Tribal Town; Coushatta Tribe of Louisiana; and The Muscogee (Creek) Nation may proceed.

TVA is responsible for notifying The Consulted Tribes that this notice has been published.

Dated: August 29, 2017.
Sarah Glass,
Acting Manager, National NAGPRA Program.

[FR Doc. 2017-18687 Filed 9-1-17; 8:45 am]

BILLING CODE 4312-52-P